INTERNATIONAL TRADE COMMISSION

[USITC SE-00-004]

Sunshine Act Meeting

AGENCY HOLDING THE MEETING: United States International Trade Commission.

TIME AND DATE: January 28, 2000 at 11:00 a.m.

PLACE: Room 101, 500 E Street SW., Washington, DC 20436, Telephone: (202) 205-2000.

STATUS: Open to the public.

MATTERS TO BE CONSIDERED:

1. Agenda for future meeting: none.

2. Minutes.

3. Ratification List.

4. Inv. No. 731-TA-863 (Preliminary)(Citric Acid and Sodium Citrate from China)—briefing and vote. (The Commission will transmit its determination to the Secretary of Commerce on January 31, 2000.)

5. Outstanding action jackets: none.

In accordance with Commission policy, subject matter listed above, not disposed of at the scheduled meeting, may be carried over to the agenda of the following meeting.

By order of the Commission:
Issued: January 19, 2000.
Donna R. Koehnke,
Secretary.

[FR Doc. 00-1622 Filed 1-19-00; 2:18 pm]

BILLING CODE 7020-02-P